ENVIRONMENTAL PROTECTION AGENCY

[FRL-6567-8]

Science Advisory Board; Notification of Public Advisory Committee Meeting

Pursuant to the Federal Advisory Committee Act, Public Law 92-463, notice is hereby given that the Integrated Risk Project Peer Review Subcommittee of the Science Advisory Board will hold a public teleconference meeting on April 17, 2000, from 11:00-2:00 pm, Eastern Standard Time.

The meeting will be coordinated through a conference call connection located in Room 6013 of the Ariel Rios Building at the U.S. Environmental Protection Agency (EPA) located at 1200 Pennsylvania Avenue, NW, Washington, DC 20004. The building entrance is adjacent to the Federal Triangle Metro Stop on 12th Street. For directions and further information concerning the meeting, please contact the individuals given below. The public is welcome to attend the meeting physically or through a telephonic link. Seating and teleconference lines are limited and available on a first-come, first-served basis.

Purpose of the Meeting: At this meeting the Integrated Risk Project Subcommittee will review the revised report of the Integrated Risk Project: Towards Integrated Environmental Decision-Making.

FOR FURTHER INFORMATION CONTACT: Members of the public desiring additional information about this meeting should contact Dr. John R. Fowle III, Deputy Staff Director and Designated Federal Officer (DFO), Science Advisory Board (1400A), U.S. EPA, Ariel Rios Building, 1200 Pennsylvania Avenue, NW, Washington, DC 20460; telephone/voice mail at (202) 564-4547; fax at (202) 501-0323; or via e-mail at fowle.jack@epa.gov or Ms. Wanda Fields, Management Assistant; telephone/voice mail at (202) 564-4539; fax at (202) 501-0582; or via email at fields.wanda@epa.gov. A copy of the draft agenda and copies of the background material will be available approximately two weeks prior to the meeting on the SAB website (www.epa.gov/sab) or from Ms. Wanda Fields at the fax or address noted above. Additional instructions about how to participate in the conference call can be obtained from Ms. Fields.

Making Oral Presentations During the Meetings

Members of the public who wish to make a brief oral presentation at the meeting must contact Dr. Fowle in writing (by email, by letter or by fax—see previously stated information) no later than 12 noon Eastern Time, April 10, 2000 in order to be included on the Agenda. Public comments will be limited to three minutes per speaker or organization. The request should identify the name of the individual making the presentation, the organization (if any) they will represent, any requirements for audio visual equipment (e.g., overhead projector, 35mm projector, chalkboard, etc.), and at least 35 copies of an outline of the issues to be addressed or of the presentation itself.

Additional information concerning the Science Advisory Board, its structure, function, and composition, may be found on the SAB Website (http://www.epa.gov/sab) and in the Annual Report of the Staff Director which is available from the SAB Publications Staff at (202) 564-4533 or via fax at (202) 501-0256.

Dated: March 22, 2000.
Donald G. Barnes,
Staff Director, Science Advisory Board.

[FR Doc. 00-7883 Filed 3-29-00; 8:45 am]

BILLING CODE 6560-50-P